DEPARTMENT OF THE INTERIOR

Bureau of Land Management

[MT-090-1990EX-01]

Notice of Availability

AGENCY: Bureau of Land Management, Interior.

ACTION: Notice.

SUMMARY: The Bureau of Land Management (BLM) announces the availability of a Draft Supplemental Environmental Impact Statement (EIS) for Reclamation of the Zortman and Landusky Mines in Phillips County, Montana. This is a supplement to the 1996 Final EIS on Reclamation Plan Modifications and Mine Life Extensions at the Zortman and Landusky Mines. The Draft Supplemental EIS addresses 12 reclamation alternatives, six for the Zortman Mine and six for the Landusky Mine. The BLM and Montana Department of Environmental Quality (DEQ) are co-lead agencies for the preparation of the Supplemental EIS. The Environmental Protection Agency and the Fort Belknap Indian Community Council are participating agencies.

DATES: The comment period on the Draft Supplemental EIS will end on July 9, 2001.

ADDRESSES: Address all written comments to Zortman/Landusky Mine Reclamation Plan SEIS, c/o Bureau of Land Management, Lewistown Field Office, P.O. Box 1160, Lewistown, MT 59457-1160. Comments may also be sent electronically to: ZLReclamation_EIS@blm.gov. Please include your name and complete mailing address on all comments.

FOR FURTHER INFORMATION CONTACT: Scott Haight, 406-538-1930.

SUPPLEMENTARY INFORMATION: This EIS is a draft supplement to the March 1996 Final EIS Zortman and Landusky Mines Reclamation Plan Modifications and Mine Life Extensions. With the bankruptcy of the mines' operator, Zortman Mining, Inc., the BLM and DEQ are overseeing reclamation at the mines. The Draft Supplemental EIS has been prepared to analyze additional reclamation alternatives developed by the agencies that may constitute a substantial change from those presented in the 1996 Final EIS. The Draft Supplemental EIS presents 12 reclamation plans, six for reclamation of the Zortman Mine and six for reclamation of the Landusky Mine. The reclamation plans were developed based upon public scoping comments and through consultation with the Fort Belknap government and the Environmental Protection Agency. The Draft Supplemental EIS discloses the environmental consequences of each alternative. Alternative Z6 is identified in the Draft Supplemental EIS as the DEQ and BLM preferred reclamation alternative for the Zortman Mine, and Alternative L4 is identified as the preferred reclamation alternative for the Landusky Mine. The identification of the preferred alternatives does not constitute an agency decision but is intended to help focus public comment on the alternatives more likely to be selected.

Authority: Sec. 102, Pub. L. 91-190, 83 Stat. 853 (42 U.S.C. 4332).

Dated: May 1, 2001.
Bruce W. Reed,
Field Manager, Bureau of Land Management.

[FR Doc. 01-11875 Filed 5-10-01; 8:45 am]

BILLING CODE 4310-DN-P